DEPARTMENT OF AGRICULTURE

Forest Service

Rio Grande National Forest, Colorado, County Line Vegetation Management Project

AGENCY: Forest Service, USDA

ACTION: Notice of Intent to Prepare an Environmental Impact Statement.

SUMMARY: The USDA Forest Service gives notice that it is preparing an Environmental Impact Statement (EIS) to implement vegetation management treatments and travel management in the spruce/fir forests within the Conejos Peak Ranger District, Rio Grande National Forest, Colorado. The agency gives notice of the environmental analysis and decision process that will occur on the proposal so that interested and affected people may become aware of how they can participate in the process and contribute to the final decision.

DATES: Scoping comments must be received within thirty days of publication of this Notice Of Intent in the Federal Register. Public meetings were previously held and no further meetings are planned. The draft environmental impact statement is expected to be available for review and comment in April 2004. The final environmental impact statement and decision is expected in August 2004.

ADDRESSES: Send written comments to: Rio Grande National Forest, ATTN: John Murphy, 1803 W. Hwy 160, Monte Vista, CO 81144. Send e-mail comments to: mailroom_r2_rio_grande@fs.fed.us.

FOR FURTHER INFORMATION CONTACT: John Murphy at (719) 852-5941.

SUPPLEMENTARY INFORMATION: The proposed project is located in a 2,282 acre analysis area in portions of the Wolf Creek (near Cumbres Pass) and Rio de Los Pinos watersheds. The proposed commercial conifer treatment areas currently are infested with spruce beetles (Dendroctonus rufipennis) or are in stands that are susceptible to spruce beetle infestations.

The project proposes to improve the health and vigor of the forest by salvaging approximately 841 acres of dead and/or dying Engelmann spruce trees to recover wood products that would otherwise be lost, and to remove high risk Engelmann spruce trees from 715 acres to make these stands more resilient to spruce beetle infestations. These actions would reduce rule loadings to reduce wildfire risk, provide opportunities for reforestation and improve residual stand vigor.

Rehabilitation of areas heavily impacted by bark beetles mortality through the completion of natural and artificial regeneration activities would occur as needed. An estimated 693 acres would be planted with spruce seedlings. Travel management is proposed for this project.

The purpose of this activity is to restore and rehabilitate ecological values in areas where excessive numbers of open roads exist and to provide access to areas heavily impacted by spruce beetle. This proposal would close 2.1 miles of road and convert it to a non-motorized trail. A reduction in open road density following project implementation would reduce adverse environmental impacts associated with excessive numbers of roads and would reduce long-term maintenance costs.

The transportation system required to access commercial harvest areas is in place throughout most of the analysis area. However, some new system and temporary road construction would be required.

Vegetation management treatments involving commercial harvest, artificial regeneration, and travel management would occur on National Forest system lands located within portions of sections 2, 3, 11 and 12 of Township (T) 32 North (N), Range (R) 4 East (E) and sections 22, 23, 25, 26, 27, 34, 35 and 36 of T33N, R4E, Conejos County, CO.

The proposed actions would implement management direction, contribute to meeting the goals and objectives identified in the 1996 Revised Land and Resource Management Plan, as amended, for the Rio Grande National Forest (Forest Plan), and move the project area toward the desired condition. This project EIS would tier to the Forest Plan, which provides goals, objectives, standards and guidelines for the various activities and land allocations on the Forest.

The development of this project began during the summer of 2003 with an environmental assessment (EA). Public scoping was completed in September of 2003. The interdisciplinary team reviewed public comment, identified issues, developed action alternatives and began the effects analysis for this project. Since that time the deciding official decided that an Environmental Impact Statement would be a more appropriate means of analysis for this project.

The Forest Service will analyze and document direct, indirect, and cumulative environmental effects for a range of alternatives. Each alternative will include mitigation measures and monitoring requirements.

Responsible Official: Peter Clark, Forest Supervisor, Rio Grande National Forest. 1803 W. Hwy 160, Monte Vista, CO 81144.

Comments Requested: Comments will continue to be received and considered throughout the analysis process. Comments received in response to this notice and through scoping, including names and addresses of those who comment, will be considered part of the public record of this proposed action and will be available for public inspection. Comments submitted anonymously will be accepted and considered; however, those who submit anonymous comments will not have standing to appeal the subsequent decision under 36 CFR Parts 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review: A draft environmental impact statement will be prepared for comment. The draft EIS is expected to be filed with the EPA (Environmental Protection Agency) and to be available for public review. At that time the EPA will publish a notice of availability of the draft EIS in the Federal Register. The comment period for the draft environmental impact statement will be 45 days from the date the EPA's notice of availability appears in the Federal Register. Comments on the draft EIS should be as specific as possible and may address the adequacy of the statement or the merits of the alternatives discussed (Reviewers may wish to refer to the Council on Environmental Quality Regulations for implementing the procedural provisions of the National Environmental Policy Act at 40 CFR 1503.3 in addressing these points).

The Forest Service believes, at this early stage, it is important to give reviewers notice of several court rulings related to public participation in the environmental review process. First, reviewers of draft environmental impact statements must structure their participation in the environmental review of the proposal so that it is meaningful and alerts an agency to the reviewers' position and contentions. Vermont Yankee Nuclear Power Corp. v. NRDC, 435 U.S. 519, 553 (1978). Also, environmental objections that could have been raised at the draft environmental impact statement stage but that are not raised until after completion of the final environmental impact statement may be waived or dismissed by the courts. City of Angoon v. Hodel, (9th Circuit, 1986) and Wisconsin Heritages, Inc. v. Harris, 490 F. Supp. 1334. 1338 (E.D. Wis. 1980). Because of these court rulings, it is very important that those interested in this proposed action participate by the close of the 45-day comment period so that substantive comments and objections are made available to the Forest Service at the time it can meaningfully consider them and respond to them in the final environmental impact statement.

To assist the Forest Service in identifying and considering issues and concerns about the proposed action, comments on the draft environmental impact statement should be as specific as possible. It is also helpful if comments refer to specific pages or chapters of the draft statement. Comments may also address the adequacy of the statement or the merits of the alternatives formulated and discussed in the statement. Reviewers may wish to refer to the Council on Environmental Quality Regulations for implementing the procedural provisions of the National Environmental Policy Act at 40 CFR 1503.3 in addressing these points.

In the final EIS, the Forest Service is required to respond to substantive comments and responses received during the comment period that pertain to the environmental consequences discussed in the draft EIS and applicable laws, regulations, and policies considered in making a decision regarding the proposal. The Responsible Official will document the decision and rationale for the decision in a Record of Decision. The final EIS is scheduled for completion in August, 2004. The decision will be subject to review under Forest Service Appeal Regulations.

Dated: February 20, 2004.
Peter L. Clark,
Forest Supervisor, Rio Grande National Forest.

[FR Doc. 04-4242 Filed 2-25-04; 8:45 am]

BILLING CODE 3410-11-M